Title 3—

The President

Proclamation 10729 of April 19, 2024

National Park Week, 2024

By the President of the United States of America

A Proclamation

America's natural wonders and historic treasures are the heart and soul of our Nation. From the high plateaus and deep ravines of the Grand Canyon to the hallowed grounds of Gettysburg and the rolling forests of the Great Smoky Mountains, our national parks unite and inspire us, connecting us to something bigger than ourselves. This week, we recommit to protecting and caring for all 429 parks and encourage Americans everywhere to enjoy them.

Protecting our national parks preserves their majestic beauty as well as meaningful pieces of our Nation's history and future. They contain irreplaceable ecosystems that help sustain the air we breathe and the water we drink, and make our Nation more resilient to the threat of climate change. They give families priceless memories of sharing the great outdoors and exploring our past, and create hundreds of thousands of jobs in recreation. Many of them help preserve sites and places that are sacred to Tribal Nations, who have stewarded these lands since time immemorial.

My Administration has pursued the most ambitious land and water conservation agenda in American history—and I am on track to conserve more lands and waters than any other President in history. That work began with setting our first-ever national conservation goal: to protect and conserve at least 30 percent of all our Nation's lands and waters by 2030 by investing in locally led, voluntary conservation and restoration efforts through our “America the Beautiful” Initiative. I signed an Executive Order protecting America's forests and harnessing the power of nature to fight climate change while also launching a new National Nature Assessment to help evaluate the status of our lands, waters, and wildlife.

Since I took office, my Administration has conserved over 41 million acres of our Nation's precious lands and waters—from safeguarding the Tongass National Forest in Alaska, the Nation's largest national forest, to restoring protections for the desert buttes of Bears Ears National Monument in Utah. I established five new national monuments, including Baaj Nwaavjo I'tah Kukveni on the edge of the Grand Canyon, a place that is sacred to many Tribal Nations, and the Emmett Till and Mamie Till-Mobley National Monument, which tells the story of the events surrounding Emmett Till's murder and their significance in the civil rights movement. Just last month, I signed an Executive Order to better recognize and integrate the history of women and girls into the parks, monuments, and historic sites that the National Park Service helps protect.

National parks and the complex ecosystems they contain also help make our Nation more resilient to the existential threat of climate change. My Administration has made the biggest investment in conservation and climate action in history, including $700 million in our national parks for increased staff and much-needed maintenance. My Bipartisan Infrastructure Law invests in sustaining our lands and waters with projects to protect salt marshes, remove invasive species from sagebrush ecosystems to reduce wildfire risk, and more. It is helping to build new trails, roads, bridges, and other transportation for our national parks as well, making our parks easier to visit. It pays for bonuses and training opportunities for over 20,000 wildland firefighters. Meanwhile, we have been working closely with Tribal Nations to recognize the value of their Indigenous Knowledge and expand Tribal co-stewardship of national parks. My recent Budget asks for over $3 billion for the National Park Service itself to upgrade park infrastructure, work with Tribal Nations in stewarding and managing culturally significant lands, support youth programs that can lead to good-paying jobs, and more. Through the Outdoor Recreation Legacy Partnership, the National Park Service is helping to create and renovate parks and outdoor spaces in communities that have been without them for too long.

I encourage everyone to explore America's national parks—and on April 20, entry will be free. Each time my family and I have visited one, we have left feeling inspired by our Nation's natural beauty and humbled by the responsibility that we all share to make sure that it endures. This National Park Week, we recommit to the work of protecting our Nation's natural treasures for the ages.

NOW, THEREFORE, I, JOSEPH R. BIDEN JR., President of the United States of America, by virtue of the authority vested in me by the Constitution and the laws of the United States, do hereby proclaim April 20 through April 28, 2024, as National Park Week. I encourage all Americans to find their park, recreate responsibly, and enjoy the benefits that come from spending time in the natural world.

IN WITNESS WHEREOF, I have hereunto set my hand this nineteenth day of April, in the year of our Lord two thousand twenty-four, and of the Independence of the United States of America the two hundred and forty-eighth.

[FR Doc. 2024-08904

Filed 4-23-24; 8:45 am]

Billing code 3395-F4-P